DEPARTMENT OF DEFENSE

GENERAL SERVICES ADMINISTRATION

NATIONAL AERONAUTICS AND SPACE ADMINISTRATION

[OMB Control No. 9000-0053; Docket 2015-0055; Sequence 25]

Information Collection; Permits, Authorities, or Franchises

AGENCY: Department of Defense (DOD), General Services Administration (GSA), and National Aeronautics and Space Administration (NASA).

ACTION: Notice of request for public comments regarding an extension of a previously existing OMB clearance.

SUMMARY: Under the provisions of the Paperwork Reduction Act, the Regulatory Secretariat Division will be submitting to the Office of Management and Budget (OMB) a request to review and approve an extension of a previously approved information collection requirement concerning permits, authorities, or franchises for regulated transportation.

DATES: Submit comments on or before January 12, 2016.

ADDRESSES: Submit comments identified by Information Collection 9000-0053, Permits, Authorities, or Franchises, by any of the following methods:

• Regulations.gov: http://www.regulations.gov.

Submit comments via the Federal eRulemaking portal by searching the OMB control number. Select the link “Submit a Comment” that corresponds with “Information Collection 9000-0053, Permits, Authorities, or Franchises”. Follow the instructions provided at the “Submit a Comment” screen. Please include your name, company name (if any), and “Information Collection 9000-0053, Permits, Authorities, or Franchises” on your attached document.

• Mail: General Services Administration, Regulatory Secretariat Division (MVCB), 1800 F Street NW., Washington, DC 20405. ATTN: Ms. Flowers/IC 9000-0053, Permits, Authorities, or Franchises.

Instructions: Please submit comments only and cite “Information Collection 9000-0053, Permits, Authorities, or Franchises,” in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Michael O. Jackson, Procurement Analyst, Office of Governmentwide Acquisition Policy, GSA 202-208-4949 or email michaelo.jackson@gsa.gov.

SUPPLEMENTARY INFORMATION:

A. Purpose

The FAR requires insertion of clause 52.247-2, Permits, Authorities, or Franchises, when regulated transportation is involved. The clause requires the contractor to indicate whether it has the proper authorization from the Federal Highway Administration (or other cognizant regulatory body) to move material. The contractor may be required to provide copies of the authorization before moving material under the contract. The clause also requires the contractor, at its expense, to obtain and maintain any permits, franchises, licenses, and other authorities issued by State and local governments. The Government may request to review the documents to ensure that the contractor has complied with all regulatory requirements.

B. Annual Reporting Burden

Respondents: 255.

Responses per Respondent: 1.

Annual Responses: 255.

Hours per Response: 0.5.

Total Burden Hours: 128.

C. Public Comments

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405 telephone 202-501-4755.

Please cite OMB Control No. 9000-0053, Permits, Authorities, or Franchises, in all correspondence.

Edward Loeb,
Acting Director, Federal Acquisition Policy Division, Office of Governmentwide Acquisition Policy, Office of Acquisition Policy, Office of Governmentwide Policy.

[FR Doc. 2015-28802 Filed 11-12-15; 8:45 am]

BILLING CODE 6820-EP-P